ENVIRONMENTAL PROTECTION AGENCY

40 CFR Part 52

[EPA-R10-OAR-2023-0438, FRL-11366-02-R10]

Air Plan Approval; OR; Permitting Rule Revisions

Correction

In Rule Document 2024-15748, appearing on pages 59610-59620, in the issue of Tuesday, July 23, 2024, make the following correction:

Beginning on page 59614, section 52.1970, Table 2 should read as follows:

§ 52.1970 Identification of plan [Corrected].

* * * * *

(c) * * *

Table 2—EPA-Approved Oregon Administrative Rules (OAR) ¹
State citation | Title/subject | State effective date | EPA approval date | Explanations
* * * * * * *
Division 200—General Air Pollution Procedures and Definitions
* * * * * * *
200-0020 | General Air Quality Definitions | 3/1/2023 | 7/23/2024, [INSERT FIRST PAGE OF FEDERAL REGISTER CITATION] |
200-0025 | Abbreviations and Acronyms | 3/1/2023 | 7/23/2024, [INSERT FIRST PAGE OF FEDERAL REGISTER CITATION] |
* * * * * * *
200-0035 | Reference Materials | 3/1/2023 | 7/23/2024, [INSERT FIRST PAGE OF FEDERAL REGISTER CITATION] |
* * * * * * *
Division 204—Designation of Air Quality Areas
* * * * * * *
Designation of Areas
204-0300 | Designation of Sustainment Areas | 3/1/2023 | 7/23/2024, [INSERT FIRST PAGE OF FEDERAL REGISTER CITATION] |
204-0310 | Designation of Reattainment Areas | 3/1/2023 | 7/23/2024, [INSERT FIRST PAGE OF FEDERAL REGISTER CITATION] |
* * * * * * *
Division 206—Air Pollution Emergencies
206-0010 | Introduction | 3/1/2023 | 7/23/2024, [INSERT FIRST PAGE OF FEDERAL REGISTER CITATION] |
* * * * * * *
Division 208—Visible Emissions and Nuisance Requirements
* * * * * * *
Visible Emissions
208-0110 | Visible Air Contaminant Limitations | 3/1/2023 | 7/23/2024, [INSERT FIRST PAGE OF FEDERAL REGISTER CITATION] |
* * * * * * *
Division 209—Public Participation
* * * * * * *
209-0080 | Issuance or Denial of a Permit | 3/1/2023 | 7/23/2024, [INSERT FIRST PAGE OF FEDERAL REGISTER CITATION] |
Division 210—Stationary Source Notification Requirements
* * * * * * *
Registration
210-0100 | Registration in General | 3/1/2023 | 7/23/2024, [INSERT FIRST PAGE OF FEDERAL REGISTER CITATION] |
* * * * * * *
Notice of Construction and Approval of Plans
210-0205 | Applicability and Requirements | 3/1/2023 | 7/23/2024, [INSERT FIRST PAGE OF FEDERAL REGISTER CITATION] | Except paragraph (3).
340-210-0225 | Types of Construction/Modification Changes | 3/1/2023 | 7/23/2024, [INSERT FIRST PAGE OF FEDERAL REGISTER CITATION] |
210-0230 | Types of Notice to Construct Application | 3/1/2023 | 7/23/2024, [INSERT FIRST PAGE OF FEDERAL REGISTER CITATION] |
210-0240 | Construction Approval | 3/1/2023 | 7/23/2024, [INSERT FIRST PAGE OF FEDERAL REGISTER CITATION] |
210-0250 | Approval to Operate | 3/1/2023 | 7/23/2024, [INSERT FIRST PAGE OF FEDERAL REGISTER CITATION] |
* * * * * * *
Division 214—Stationary Source Reporting Requirements
* * * * * * *
Reporting
* * * * * * *
214-0110 | Request for Information | 3/1/2023 | 7/23/2024, [INSERT FIRST PAGE OF FEDERAL REGISTER CITATION] |
214-0114 | Records; Maintaining and Reporting | 3/1/2023 | 7/23/2024, [INSERT FIRST PAGE OF FEDERAL REGISTER CITATION] |
* * * * * * *
214-0130 | Reporting: Information Exempt from Disclosure | 3/1/2023 | 7/23/2024, [INSERT FIRST PAGE OF FEDERAL REGISTER CITATION] |
* * * * * * *
Division 216—Air Contaminant Discharge Permits
* * * * * * *
216-0020 | Applicability and Jurisdiction | 3/1/2023 | 7/23/2024, [INSERT FIRST PAGE OF FEDERAL REGISTER CITATION] |
216-0025 | Types of Permits | 3/1/2023 | 7/23/2024, [INSERT FIRST PAGE OF FEDERAL REGISTER CITATION] |
* * * * * * *
216-0040 | Application Requirements | 3/1/2023 | 7/23/2024, [INSERT FIRST PAGE OF FEDERAL REGISTER CITATION] |
* * * * * * *
216-0054 | Short Term Activity ACDPs | 3/1/2023 | 7/23/2024, [INSERT FIRST PAGE OF FEDERAL REGISTER CITATION] |
216-0056 | Basic ACDPs | 3/1/2023 | 7/23/2024, [INSERT FIRST PAGE OF FEDERAL REGISTER CITATION] |
216-0060 | General Air Contaminant Discharge Permits | 3/1/2023 | 7/23/2024, [INSERT FIRST PAGE OF FEDERAL REGISTER CITATION] |
* * * * * * *
216-0064 | Simple ACDPs | 3/1/2023 | 7/23/2024, [INSERT FIRST PAGE OF FEDERAL REGISTER CITATION] |
216-0066 | Standard ACDPs | 3/1/2023 | 7/23/2024, [INSERT FIRST PAGE OF FEDERAL REGISTER CITATION] |
216-0068 | Simple and Standard ACDP Attachments | 3/1/2023 | 7/23/2024, [INSERT FIRST PAGE OF FEDERAL REGISTER CITATION] |
* * * * * * *
216-0082 | Expiration, Termination, Reinstatement or Revocation of an ACDP | 3/1/2023 | 7/23/2024, [INSERT FIRST PAGE OF FEDERAL REGISTER CITATION] |
216-0084 | Department Initiated Modification | 3/1/2023 | 7/23/2024, [INSERT FIRST PAGE OF FEDERAL REGISTER CITATION] |
* * * * * * *
216-8010 | Table 1—Activities and Sources | 3/1/2023 | 7/23/2024, [INSERT FIRST PAGE OF FEDERAL REGISTER CITATION] |
216-8020 | Table 2—Air Contaminant Discharge Permits | 3/1/2023 | 7/23/2024, [INSERT FIRST PAGE OF FEDERAL REGISTER CITATION] | Except paragraph (2) and Table 2.
Division 222—Stationary Source Plant Site Emission Limits
* * * * * * *
222-0020 | Applicability and Jurisdiction | 3/1/2023 | 7/23/2024, [INSERT FIRST PAGE OF FEDERAL REGISTER CITATION] |
* * * * * * *
Criteria for Establishing Plant Site Emission Limits
222-0035 | General Requirements for Establishing All PSELs | 3/1/2023 | 7/23/2024, [INSERT FIRST PAGE OF FEDERAL REGISTER CITATION] |
222-0041 | Annual PSELs | 3/1/2023 | 7/23/2024, [INSERT FIRST PAGE OF FEDERAL REGISTER CITATION] |
222-0042 | Short Term PSEL | 3/1/2023 | 7/23/2024, [INSERT FIRST PAGE OF FEDERAL REGISTER CITATION] |
222-0046 | Netting Basis | 3/1/2023 | 7/23/2024, [INSERT FIRST PAGE OF FEDERAL REGISTER CITATION] |
* * * * * * *
Division 224—New Source Review
* * * * * * *
224-0030 | New Source Review Procedural Requirements | 3/1/2023 | 7/23/2024, [INSERT FIRST PAGE OF FEDERAL REGISTER CITATION] |
* * * * * * *
Net Air Quality Benefit Emission Offsets
* * * * * * *
224-0520 | Requirements for Demonstrating Net Air Quality Benefit for Ozone Areas | 3/1/2023 | 7/23/2024, [INSERT FIRST PAGE OF FEDERAL REGISTER CITATION] |
224-0530 | Requirements for Demonstrating Net Air Quality Benefit for Non-Ozone Areas | 3/1/2023 | 7/23/2024, [INSERT FIRST PAGE OF FEDERAL REGISTER CITATION] |
* * * * * * *
Division 225—Air Quality Analysis
* * * * * * *
225-0030 | Procedural Requirements | 3/1/2023 | 7/23/2024, [INSERT FIRST PAGE OF FEDERAL REGISTER CITATION] |
* * * * * * *
225-0050 | Requirements for Analysis in PSD Class I and Class III Areas | 3/1/2023 | 7/23/2024, [INSERT FIRST PAGE OF FEDERAL REGISTER CITATION] |
* * * * * * *
225-0070 | Requirements for Demonstrating Compliance with Air Quality related Values Protection | 3/1/2023 | 7/23/2024, [INSERT FIRST PAGE OF FEDERAL REGISTER CITATION] |
Division 226—General Emission Standards
* * * * * * *
Highest and Best Practicable Treatment and Control
226-0100 | Policy and Application | 3/1/2023 | 7/23/2024, [INSERT FIRST PAGE OF FEDERAL REGISTER CITATION] |
* * * * * * *
226-0130 | Typically Achievable Control Technology (TACT) | 3/1/2023 | 7/23/2024, [INSERT FIRST PAGE OF FEDERAL REGISTER CITATION] |
226-0140 | Additional Control Requirements for Stationary Sources of Air Contaminants | 3/1/2023 | 7/23/2024, [INSERT FIRST PAGE OF FEDERAL REGISTER CITATION] |
Grain Loading Standards
226-0210 | Grain Loading Standards: Particulate Emission Limitations for Sources Other Than Fuel Burning Equipment, Refuse Burning Equipment and Fugitive Emissions | 3/1/2023 | 7/23/2024, [INSERT FIRST PAGE OF FEDERAL REGISTER CITATION] |
* * * * * * *
Division 228—Requirements for Fuel Burning Equipment and Fuel Sulfur Content
* * * * * * *
General Emission Standards for Fuel Burning Equipment
* * * * * * *
228-0210 | General Emission Standards for Fuel Burning Equipment: Grain Loading Standards | 3/1/2023 | 7/23/2024, [INSERT FIRST PAGE OF FEDERAL REGISTER CITATION] |
* * * * * * *
Division 232—Emission Standards for VOC Point Sources
* * * * * * *
232-0030 | Definitions | 3/1/2023 | 7/23/2024, [INSERT FIRST PAGE OF FEDERAL REGISTER CITATION] |
232-0040 | General Non-Categorical Requirements | 3/1/2023 | 7/23/2024, [INSERT FIRST PAGE OF FEDERAL REGISTER CITATION] |
* * * * * * *
232-0090 | Bulk Gasoline Terminals Including Truck and Trailer Loading | 3/1/2023 | 7/23/2024, [INSERT FIRST PAGE OF FEDERAL REGISTER CITATION] |
* * * * * * *
232-0160 | Surface Coating in Manufacturing | 3/1/2023 | 7/23/2024, [INSERT FIRST PAGE OF FEDERAL REGISTER CITATION] |
232-0170 | Aerospace Component Coating Operations | 3/1/2023 | 7/23/2024, [INSERT FIRST PAGE OF FEDERAL REGISTER CITATION] |
* * * * * * *
Division 234—Emission Standards for Wood Products Industries
* * * * * * *
234-0010 | Definitions | 3/1/2023 | 7/23/2024, [INSERT FIRST PAGE OF FEDERAL REGISTER CITATION] | Except (8) and (10).
* * * * * * *
Kraft Pulp Mills
* * * * * * *
234-0210 | Emission Limitations | 3/1/2023 | 7/23/2024, [INSERT FIRST PAGE OF FEDERAL REGISTER CITATION] | Except references to total reduced sulfur.
* * * * * * *
Division 236—Emission Standards for Specific Industries
* * * * * * *
Hot Mix Asphalt Plants
* * * * * * *
236-8010 | Process Weight Table | 3/1/2023 | 7/23/2024, [INSERT FIRST PAGE OF FEDERAL REGISTER CITATION] |
* * * * * * *

[FR Doc. C1-2024-15748 Filed 8-16-24; 8:45 am]

BILLING CODE 0099-10-P